DEPARTMENT OF ENGERGY

Federal Energy Regulatory Commission

[Docket No. EG01-119-000, et al.]

Indian Mesa Power Partners II LP, et al.; Electric Rate and Corporate Regulation Filings

February 9, 2001.

Take notice that the following filings have been made with the Commission:

1. Indian Mesa Power Partners II LP

[Docket No. EG01-119-000]

Take notice that on February 7, 2001, Indian Mesa Partners II LP, 13000 Jameson Road, Tehachapi, California 93561 (Indian Mesa II), filed with the Federal Energy Regulatory Commission an application for determination of exempt wholesale generator status pursuant to Part 365 of the Commission's regulations.

Indian Mesa II is an indirect subsidiary company of Enron Corp. Indian Mesa II will build and own a wind turbine generation facility (the “Indian Mesa II Facility”) near Iraan, Texas. The Indian Mesa II Facility will consist of ninety (90) wind turbines, with an aggregate nameplate capacity of approximately one hundred thirty-five (135) megawatts. Electric energy produced by the Indian Mesa II Facility will be sold to Enron Power Marketing, Inc.

Comment date: March 2, 2001, in accordance with Standard Paragraph E at the end of this notice. The Commission will limit its consideration of comments to those that concern the adequacy or accuracy of the application.

2. New Haven Harbor Power LLC

[Docket No. EG01-120-000]

Take notice that on February 8, 2001, New Haven Harbor Power LLC (NHHP) filed with the Federal Energy Regulatory Commission an application for determination of exempt wholesale generator status pursuant to section 32 of the Public Utility Holding Company Act of 1935 (PUHCA) and Part 365 of the Commission's regulations.

As more fully explained in the application, NHHP is a limited liability company that will be engaged either directly or indirectly and exclusively in the business of owning and operating electric generation facilities located in New Haven, Connecticut.

Comment date: March 2, 2001, in accordance with Standard Paragraph E at the end of this notice. The Commission will limit its consideration of comments to those that concern the adequacy or accuracy of the application.

3. NRG Connecticut Power Assets LLC

[Docket No. EG01-121-000]

Take notice that on February 8, 2001, NRG Connecticut Power Assets LLC (NRG Connecticut) filed with the Federal Energy Regulatory Commission an application for determination of exempt wholesale generator status pursuant to section 32 of the Public Utility Holding Company Act of 1935 (PUHCA) and Part 365 of the Commission's regulations.

As more fully explained in the application, NRG Connecticut is a limited liability company that will be engaged either directly or indirectly and exclusively in the business of owning and operating electric generation facilities located in Bridgeport and New Haven, Connecticut.

Comment date: March 2, 2001, in accordance with Standard Paragraph E at the end of this notice. The Commission will limit its consideration of comments to those that concern the adequacy or accuracy of the application.

4. Bridgeport Harbor Power LLC

[Docket No. EG01-122-000]

Take notice that on February 8, 2001, Bridgeport Harbor Power LLC (BHP) filed with the Federal Energy Regulatory Commission an application for determination of exempt wholesale generator status pursuant to section 32 of the Public Utility Holding Company Act of 1935 (PUHCA) and Part 365 of the Commission's regulations.

As more fully explained in the application, BHP is a limited liability company that will be engaged either directly or indirectly and exclusively in the business of owning and operating electric generation facilities located in Bridgeport, Connecticut.

Comment date: March 2, 2001, in accordance with Standard Paragraph E at the end of this notice. The Commission will limit its consideration of comments to those that concern the adequacy or accuracy of the application.

5. American Transmission Company, LLC

[Docket No. ES01-19-000]

Take notice that on February 5, 2001, American Transmission Company, LLC (ATCo.) submitted an application pursuant to section 204 of the Federal Power Act requesting authorization to issue no more than $400 million of long-term notes and to engage in short-term debt financing in an amount not to exceed $125 million, with an aggregate amount of debt not to exceed $400 million.

ATCo. also requests a waiver of the Commission competitive bidding and negotiated placement requirements at 18 CFR 34.2.

Comment date: February 26, 2001, in accordance with Standard Paragraph E at the end of this notice.

6. Craig G. Matthews

[Docket No. ID-3601-000]

Take notice that on February 5, 2001, Craig G. Matthews filed an Abbreviated Application for Authorization to Hold Interlocking Positions pursuant to Section 305(b) of the Federal Power Act.

Comment date: March 7, 2001, in accordance with Standard Paragraph E at the end of this notice.

7. Illinois Power Company

[Docket No. ER01-722-001]

Take notice that on February 6, 2001, Illinois Power Company (Illinois Power), 500 South 27th Street, Decatur, Illinois 65251-2200, submitted an amendment to its original filing in this proceeding. Illinois Power states that the amendment consists of revised specifications to four Service Agreements for Firm Long-Term Point-To-Point Transmission Service with Dynegy Power Marketing Inc. (DPM) for the purpose of clarifying receipt and delivery points.

Illinois Power states that a copy of this filing has been sent to DPM.

Comment date: February 26, 2001, in accordance with Standard Paragraph E at the end of this notice.

8. Illinois Power Company

[Docket No. ER01-1119-001]

Take notice that on February 6, 2001, Illinois Power Company (Illinois Power), 500 South 27th Street, Decatur, Illinois 65251-2200, tendered for filing revised specifications to seven Firm Long-Term Point-To-Point Transmission Service Agreements with Dynegy Power Marketing Inc. (DPM), for the purpose of clarifying receipt and delivery points.

Illinois Power states that a copy of this filing has been sent to DPM.

Comment date: February 26, 2001, in accordance with Standard Paragraph E at the end of this notice.

9. Consolidated Edison Company of New York, Inc.

[Docket No. ER01-471-002]

Take notice that on February 6, 2001, Consolidated Edison Company of New York, Inc. (Con Edison), tendered for filing a re-conformed rate schedule in the above-referenced docket.

Con Edison states that a copy of this filing has been served by mail upon Central Hudson.

Comment date: February 27, 2001, in accordance with Standard Paragraph E at the end of this notice.

10. Consolidated Edison Company of New York, Inc.

[Docket No. ER01-129-002]

Take notice that on February 6, 2001, Consolidated Edison Company of New York, Inc. (Con Edison), tendered for filing a revised rate schedule in the above-listed docket.

Con Edison states that a copy of this filing has been served by mail upon NYPA.

Comment date: February 23, 2001, in accordance with Standard Paragraph E at the end of this notice.

11. Carolina Power & Light Company

[Docket Nos. ER00-3537-003 and OA96-198-006]

Take notice that on February 2, 2001, Carolina Power & Light Company (CP&L), tendered for filing a revised refund report in this docket.

Copies of the filing were served upon the North Carolina Utilities Commission and the South Carolina Public Service Commission.

Comment date: February 23, 2001, in accordance with Standard Paragraph E at the end of this notice.

12. ONEOK Power Marketing Company

[Docket No. ER98-3897-007]

Take notice that on February 2, 2001, ONEOK Power Marketing Company (OPMC), tendered for filing Notification of Change in Status in compliance with the reporting requirements of the Federal Energy Regulatory Commission's Letter Order dated September 8, 1998. OPMC plans to construct a gas-fired power plant in Logan County, Oklahoma with peak capacity of 338 Mw. OPMC also intends to sell energy and capacity from the new generation facility at market based rates under its FERC Rate Schedule No. 2.

Comment date: February 23, 2001, in accordance with Standard Paragraph E at the end of this notice.

13. Consolidated Edison Company of New York, Inc.

[Docket No. ER01-130-002]

Take notice that on February 6, 2001, Consolidated Edison Company of New York, Inc. (Con Edison), tendered for filing a re-conformed rate schedule in the above-referenced docket.

Con Edison states that a copy of this filing has been served by mail upon LIPA.

Comment date: February 27, 2001, in accordance with Standard Paragraph E at the end of this notice.

14. Deseret Generation & Transmission Co-operative, Inc

[Docket No. ER01-1133-001]

Take notice that on February 2, 2001, Deseret Generation & Transmission Co-operative, Inc. (Deseret), tendered for filing a Long-Term Service Agreement between Deseret and Kanab City, Utah. Deseret requests that the Commission accept this filing as a service agreement under the Company's Market-Based Rate Tariff, designated Service Agreement No. 8 to FERC Electric Tariff, Original Volume No. 3.

Deseret requests an effective date of January 3, 2001.

Comment date: February 23, 2001, in accordance with Standard Paragraph E at the end of this notice.

15. Sempra Energy Resources

[Docket No. ER01-1178-000]

Take notice that on February 6, 2001, Sempra Energy Resources (SER), tendered for filing pursuant to Rule 205, 18 CFR 385.205, a petition for waivers and blanket approvals under various regulations of the Commission and for an order accepting its FERC Electric Rate Schedule No. 1 authorizing SER to make sales at market-based rates.

SER has requested waiver of the Commission's Regulations to permit an effective date of sixty days from the date of this filing.

SER intends to sell electric power and ancillary services at wholesale. In transactions where SER sells electric power or ancillary services it proposes to make such sales on rates, terms, and conditions to be mutually agreed to with the purchasing party. Rate Schedule No. 1 provides for the sale of energy and capacity and ancillary services at agreed prices.

Comment date: February 27, 2001, in accordance with Standard Paragraph E at the end of this notice.

16. American Transmission Systems, Inc.

[Docket No. ER01-1179-000]

Take notice that on February 6, 2001, American Transmission Systems, Inc., tendered for filing a Service Agreement to provide Firm Point-to-Point Transmission Service for FirstEnergy Services Corp., the Transmission Customer. Services are being provided under the American Transmission Systems, Inc., Open Access Transmission Tariff submitted for filing by the Federal Energy Regulatory Commission in Docket No. ER99-2647-000.

The proposed effective date under the Service Agreement is January 22, 2001 for the above mentioned Service Agreement in this filing.

Comment date: February 27, 2001, in accordance with Standard Paragraph E at the end of this notice.

17. American Transmission Systems, Inc.

[Docket No. ER01-1180-000]

Take notice that on February 6, 2001, American Transmission Systems, Inc., tendered for filing a Service Agreement to provide Non-Firm Point-to-Point Transmission Service for FirstEnergy Services Corp., the Transmission Customer. Services are being provided under the American Transmission Systems, Inc., Open Access Transmission Tariff submitted for filing by the Federal Energy Regulatory Commission in Docket No. ER99-2647-000.

The proposed effective date under the Service Agreement is January 22, 2001 for the above mentioned Service Agreement in this filing.

Comment date: February 27, 2001, in accordance with Standard Paragraph E at the end of this notice.

18. MidAmerican Energy Company

[Docket No. ER01-1181-000]

Take notice that on February 6, 2001, MidAmerican Energy Company (MidAmerican), tendered for filing with the Commission a Notice of Cancellation pursuant to Section 35.15 of the Commission's Regulations.

MidAmerican requests that the following rate schedule be canceled effective as of 11:59 p.m. on April 30, 2001:

1. Unit Participation Agreement dated August 12, 1991 between Iowa Public Service Company (a predecessor company of MidAmerican) and Interstate Power Company (a predecessor company of Alliant Energy Company). This Agreement has been designated as MidAmerican Rate Schedule No. 80.

MidAmerican has mailed a copy of this filing to Alliant Energy, the Iowa Utilities Board, the Illinois Commerce Commission and the South Dakota Public Utilities

Comment date: February 27, 2001, in accordance with Standard Paragraph E at the end of this notice.

19. Doswell Limited Partnership

[Docket No. ER01-1182-000]

Take notice that on February 6, 2001, Doswell Limited Partnership (Doswell), tendered for filing, pursuant to Section 205 of the Federal Power Act, an executed Service Agreement (the Service Agreement) between Doswell and Virginia Electric and Power Company.

Doswell requests that the Commission accept for filing the Service Agreement as Doswell's Rate Schedule FERC No. 4 to be effective as soon as possible, but in no event later than sixty (60) days from the date of filing.

Comment date: February 27, 2001, in accordance with Standard Paragraph E at the end of this notice.

20. Celerity Energy of New Mexico, LLC

[Docket No. ER01-1183-000]

Take notice that on February 6, 2001, Celerity Energy of New Mexico, LLC (Celerity), petitioned the Commission for acceptance of Celerity Rate Schedule FERC No. 1; the granting of certain blanket approvals, including the authority to sell electricity at market-based rates; and the waiver of certain Commission Regulations.

Celerity intends to engage in wholesale electric power and energy purchases and sales as a marketer. Celerity is 85 percent owned by Caterpillar Power Systems, Inc., which produces electric power generation equipment, and 15 percent owned by Celerity Energy, an Oregon LLC, which engages in the business of distributed generation products and services.

Comment date: February 27, 2001, in accordance with Standard Paragraph E at the end of this notice.

21. Niagara Mohawk Power Corporation

[Docket No. ER01-1184-000]

Take notice that on February 6, 2001, Niagara Mohawk Power Corporation tendered for filing an Interconnection Agreement between Niagara Mohawk Power Corporation and International Paper Company for the Ticonderoga generating facility, dated as of June 26, 2000.

Niagara Mohawk Power Corporation requests an Interconnection Agreement effective date of June 26, 2000. To the extent necessary, Niagara Mohawk requests waiver of the Commission requirement that a rate schedule be filed not less than 60 days or more than 120 days from its effective date.

Comment date: February 27, 2001, in accordance with Standard Paragraph E at the end of this notice.

22. Illinois Power Company

[Docket No. ER01-1185-000]

Take notice that on February 5, 2001, Illinois Power Company (Illinois Power), 500 South 27th Street, Decatur, Illinois 65251-2200, tendered for filing with the Commission a Service Agreement for Non-Firm Point-To-Point Transmission Service and a Service Agreement for Firm Short-Term Point-To-Point Transmission Service entered into with Split Rock Energy LLC pursuant to Illinois Power's Open Access Transmission Tariff.

Illinois Power requests an effective date of January 25, 2001 for the Agreements and accordingly seeks a waiver of the Commission's notice requirement.

Comment date: February 27, 2001, in accordance with Standard Paragraph E at the end of this notice.

23. Deseret Generation & Transmission Co-operative, Inc.

[Docket No. ER01-1186-000]

Take notice that on February 6, 2001, Deseret Generation & Transmission Co-operative, Inc. (Deseret), tendered for filing a Amendment to Service Agreement No. 7 to Deseret's FERC Electric Tariff, Original Volume No. 3, amending a Confirmation Agreement between Deseret and Utah Associated Municipal Power Systems (UAMPS) for a firm power sale pursuant to the Western Systems Power Pool Agreement (WSPP Agreement).

Deseret requests an effective date of February 1, 2001.

Comment date: February 27, 2001, in accordance with Standard Paragraph E at the end of this notice.

24. Arizona Public Service Company

[Docket No. ER01-1187-000]

Take notice that on February 6, 2001, Arizona Public Service Company (APS), tendered for filing with the Commission its notice of termination of the California Power Exchange Corporation (PX) Participation Agreement, Addendums to the PX Participation Agreement and the PX Meter Service Agreement.

Comment date: February 27, 2001, in accordance with Standard Paragraph E at the end of this notice.

25. Avista Corp.

[Docket No. ER01-1188-000]

Take notice that on February 6, 2001 Avista Corp. (AVA), tendered for filing with the Federal Energy Regulatory Commission executed Service Agreements for Short-Term Firm and Non-Firm Point-To-Point Transmission Service under AVA's Open Access Transmission Tariff—FERC Electric Tariff, Volume No. 8 with Pacific Northwest Generating Cooperative.

AVA requests the Service Agreements be given a respective effective date of January 23, 2001.

Comment date: February 27, 2001, in accordance with Standard Paragraph E at the end of this notice.

26. Mid-Continent Area Power Pool

[Docket Nos. OA97-163-012, ER97-1162-011 and OA97-658-012]

Take notice that on February 2, 2001, the Mid-Continent Area Power Pool (MAPP), tendered for filing notice to the Commission of certain procedural changes related to MAPP Schedule F to the Restated Agreement.

A copy of the notification was served on all parties in the above-referenced proceedings and the state public service commissions located in the MAPP region.

Comment date: February 23, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-3906 Filed 2-14-01; 8:45 am]

BILLING CODE 6717-01-P